ENVIRONMENTAL PROTECTION AGENCY

[FRL-6926-9]

Petition for Secondary National Ambient Air Quality Standards for Nitrogen Dioxide, Sulfur Dioxide, and Fine Particulate Matter and Related Request

AGENCY: Environmental Protection Agency (EPA).

ACTION: Notice of extension of comment period.

SUMMARY: On August 9, 2000 (65 FR 48699), EPA published a notice announcing receipt of a petition for rulemaking under section 109 of the Clean Air Act (CAA), to promulgate revised secondary national ambient air quality standards (NAAQS) for pollutants associated with the formation of acid rain, including nitrogen dioxide (NO2), sulfur dioxide (SO2), and fine particulate matter (PM2.5). The petition was submitted by representatives of the States of New York, Massachusetts, Maine, New Hampshire, Connecticut, Rhode Island, and Vermont in a letter to the EPA Administrator, dated October 26, 1999. In that letter, the States request EPA to address what they assert to be a wide range of adverse environmental effects associated with these pollutants through the mechanism of revised secondary NAAQS. In addition, EPA has received a related request for rulemaking from the U.S. Department of the Interior (DOI) in a letter to the EPA Administrator, dated July 19, 2000, to address many of the same adverse environmental effects associated with the same types of air pollutants, and with ozone (O3) that DOI asserts are occurring in national parks and wilderness areas.

To consider and respond to this petition and related requests properly, EPA is reviewing relevant scientific information and consulting with the public and potentially affected stakeholders to ensure that decisions in response to these requests are based on the best available information. By this action, EPA is extending the comment period to give the public additional time to review this petition for rulemaking from the States and this request from DOI and to submit public comments to EPA.

DATES: Comments and associated information and analyses should be submitted on or before April 2, 2001.

ADDRESSES: You may comment in various ways:

On paper. Send paper comments (in duplicate, if possible) to the Air and Radiation Docket and Information Center (6102), Attention Docket No. A-2000-36, U.S. Environmental Protection Agency, 1200 Pennsylvania Ave., NW., Washington, DC 20460.

Electronically. Send electronic comments to EPA at: A-and-R-Docket@epa.gov. We accept comments as e-mail attachments or on disk. Either way, they must be in Wordperfect 5.1, 6.0, Corel 8, or ASCII file format. Avoid the use of special characters and any form of encryption. Be sure to identify all comments by Docket No. A-2000-36.

Public Inspection. Docket No. A-2000-36 containing the letters and related information is available for public inspection and copying between 8 a.m. and 5:30 p.m., Monday through Friday, excluding legal holidays at the Air and Radiation Docket and Information Center (6102), 401 M Street, SW, Room M-1500, Washington, DC 20460, phone 202-260-7548, fax 202-260-4400. A reasonable fee for copying may be charged.

FOR FURTHER INFORMATION CONTACT: David J. McKee, MD-15, Air Quality Strategies and Standards Division, Office of Air Quality Planning and Standards, U.S. Environmental Protection Agency, Research Triangle Park, NC 27711, telephone (919) 541-5288, e-mail mckee.dave@epa.gov; or Geoffrey L. Wilcox, Mail Code 2344A, Office of General Counsel, U.S. Environmental Protection Agency, 1200 Pennsylvania Avenue, NW, Washington, DC 20460, telephone (202) 564-5601, e-mail: wilcox.geoffrey@epa.gov.

Dated: December 20, 2000.
John S. Seitz,
Director, Office of Air Quality Planning and Standards.

[FR Doc. 00-33428 Filed 12-29-00; 8:45 am]

BILLING CODE 6560-50-P